DEPARTMENT OF THE TREASURY

Agency Information Collection Activities; Submission for OMB Review; Comment Request; Multiple IRS Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before August 14, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Internal Revenue Service (IRS)

Title: TD 8612 (PS-102-88)—Income, Gift and Estate Tax.

OMB Control Number: 1545-1360.

Type of Review: Extension without change of a currently approved collection.

Abstract: This regulation concerns the availability of the gift and estate tax marital deduction when the donee spouse or the surviving spouse is not a United States citizen. The regulation provides guidance to individuals or fiduciaries: (1) For making a qualified domestic trust election on the estate tax return of a decedent whose surviving spouse is not a United States citizen in order that the estate may obtain the marital deduction, and (2) for filing the annual returns that such an election may require.

Form: None.

Affected Public: Individuals or Households.

Estimated Total Annual Burden Hours: 6,150.

Title: Renewable Electricity, Refined Coal, and Indian Coal Production Credit.

OMB Control Number: 1545-1362.

Type of Review: Revision of a currently approved collection.

Abstract: Filers claiming the general business credit for electricity produced from certain renewable resources under Internal Revenue Code sections 38 and 45 must file Form 8835.

Form: 8835.

Affected Public: Businesses or other for-profits.

Estimated Total Annual Burden Hours: 8,720.

Title: Consent To Extend the Time To Assess Tax Under Section 367—Gain Recognition Agreement.

OMB Control Number: 1545-1395.

Type of Review: Extension without change of a currently approved collection.

Abstract: Form 8838 is used to extend the statute of limitations for U.S. persons who transfer stock or securities to a foreign corporation. The form is filed when the transferor makes a gain recognition agreement. This agreement allows the transferor to defer the payment of tax on the transfer. The IRS uses Form 8838 so that it may assess tax against the transferor after the expiration of the original statute of limitations.

Form: 8838.

Affected Public: Businesses or other for-profits.

Estimated Total Annual Burden Hours: 5,482.

Title: PS-268-82 (TD 8696) Definitions Under Subchapter S of the Internal Revenue Code.

OMB Control Number: 1545-1462.

Type of Review: Extension without change of a previously approved collection.

Abstract: The regulations provide definitions and special rules under Code section 1377 which affect S corporations and their shareholders.

Form: None.

Affected Public: Businesses or other for-profits.

Estimated Total Annual Burden Hours: 1,000.

Title: TD 8960 (Final)—Deductibility, Substantiation, and Disclosure of Certain Charitable Contributions.

OMB Control Number: 1545-1464.

Type of Review: Extension without change of a currently approved collection.

Abstract: The final regulation provides guidance regarding the allowance of certain charitable contribution deductions, the substantiation requirements for charitable contributions of $250 or more, and the disclosure requirements for quid pro quo contributions of $75 or more. These regulations will affect donee organizations and individuals and entities that make payments to donee organizations.

Form: None.

Affected Public: Individuals or Households.

Estimated Total Annual Burden Hours: 1,957,000.

Title: Certain Transfers of Domestic Stock or Securities by U.S. Persons to Foreign Corporations—INTL-9-95 (TD 8702—Final).

OMB Control Number: 1545-1478.

Type of Review: Extension without change of a currently approved collection.

Abstract: Transfers of stock or securities by U.S. persons in tax-free transactions are treated as taxable transactions when the acquirer is a foreign corporation, unless an exception applies (section 367(a)). Under the regulations, no U.S. person will qualify for an exception unless the U.S. target company complies with certain reporting requirements.

Form: None.

Affected Public: Businesses or other for-profits.

Estimated Total Annual Burden Hours: 1,000.

Title: TD 8855—Communications Excise Tax; Prepaid Telephone Cards (Previously REG-118620-97).

OMB Control Number: 1545-1628.

Type of Review: Extension without change of a previously approved collection.

Abstract: Carriers must keep certain information documenting their sales of prepaid telephone cards to other carriers to avoid responsibility for collecting tax. The regulations provide rules for the application of the communication excise tax to prepaid telephone cards.

Form: None.

Affected Public: Businesses or other for-profits.

Estimated Total Annual Burden Hours: 34.

Title: Paid Preparer's Due Diligence Checklist.

OMB Control Number: 1545-1629.

Type of Review: Extension without change of a currently approved collection.

Abstract: Form 8867 helps preparer's meet the due diligence requirements of Code section 6695(g), which was added by section 1085(a)(2) of the Taxpayer Relief Act of 1997. Paid preparer's of Federal income tax returns or claims for refund involving the earned income credit (EIC) must meet the due diligence requirements in determining if the taxpayer is eligible for the EIC and the amount of the credit. Failure to do so could result in a $510 penalty for each failure. Completion of Form 8867 is one of the due diligence requirements.

Form: 8867.

Affected Public: Businesses or other for-profits.

Estimated Total Annual Burden Hours: 17,824,793.

Title: TD 8853 (Final), Recharacterizing Financing Arrangements Involving Fast-Pay Stock.

OMB Control Number: 1545-1642.

Type of Review: Extension without change of a currently approved collection.

Abstract: Section 1.7701(I)-3 recharacterizes fast-pay arrangements. Certain participants in such arrangements must file a statement that includes the name of the corporation that issued the fast-pay stock, and (to the extent the filing taxpayer knows or has reason to know) the terms of the fast-pay stock, the date on which it was issued, and the names and taxpayer identification numbers of any shareholders of any class of stock that is not traded on an established securities market.

Form: None.

Affected Public: Businesses or other for-profits.

Estimated Total Annual Burden Hours: 50.

Title: Request for Recovery of Overpayments Under Arbitrage Rebate Provisions.

OMB Control Number: 1545-1750.

Type of Review: Extension without change of a currently approved collection.

Abstract: Under Treasury Regulations section 1.148-3(i), bond issuers may recover an overpayment of arbitrage rebate paid to the United States under Internal Revenue Code section 148. Form 8038-R is used to request recovery of any overpayment of arbitrage rebate made under the arbitrage rebate provisions.

Form: 9038-R.

Affected Public: State, Local, and Tribal Governments.

Estimated Total Annual Burden Hours: 2,458.

Title: Revenue Procedure 2008-38, Revenue Procedure 2008-39, Revenue Procedure 2008-40, Revenue Procedure 2008-41, Revenue Procedure 2008-42.

OMB Control Number: 1545-1752.

Type of Review: Extension without change of a currently approved collection.

Abstract: RP 2008-40 allows issuers of life insurance contracts that have failed to meet the definition of life insurance contract under section 7702 or to satisfy the requirements of section 101(f) of the IRC to cure these contracts so that they do not fail section 7702 or section 101(f). RP 2008-38 allows issuers of variable contracts that have failed to meet the diversification requirements of section 817(h) to cure these contracts so that they do not fail section 817(h). RP 2008-39 allows issuers of life insurance contracts whose contracts have failed to meet the tests of section 7702A to cure these contracts that have inadvertently become modified endowment contracts. Rev. Proc. 2008-41 provides a procedure by which an issuer of a variable contract may remedy an inadvertent failure of a variable contract to meet the diversification requirements of section 817(h). RP 2008-42 provides guidance.

Form: None.

Affected Public: Businesses or other for-profits.

Estimated Total Annual Burden Hours: 5,950.

Title: TD 9327 (Final)—Disclosure of Returns and Return Information in Connection With Written Contracts or Agreements for the Acquisition of Property and Services for Tax Administration.

OMB Control Number: 1545-1821.

Type of Review: Extension without change of a currently approved collection.

Abstract: Final regulation clarifies that redisclosures of returns and return information by contractors to agents or subcontractors are permissible, and that the penalty provisions, written notification requirements, and safeguard requirements are applicable to these agents and subcontractors. Section 301.6103(n)-1(e)(3) of the regulations require that before the execution of a contract or agreement for the acquisition of property or services under which returns or return information will be disclosed, the contract or agreement must be made available to the IRS.

Form: None.

Affected Public: State, Local, and Tribal Governments.

Estimated Total Annual Burden Hours: 250.

Title: Entry of Taxable Fuel (REG-120616-03; TD 9346).

OMB Control Number: 1545-1897.

Type of Review: Extension without change of a currently approved collection.

Abstract: Treasury Decision 9346 contains final regulations relating to the tax on the entry of taxable fuel (gasoline, diesel fuel, and kerosene), into the United States. The final regulations affect enterers of taxable fuel, other importers, and certain sureties.

Section 4081(a)(1)(A)(iii) imposes a tax on the entry into the United States of any taxable fuel, for consumption, use, or warehousing. This collection of information allows certain importers of record and sureties to avoid liability for the tax on the entry of taxable fuel into the United

States. Section 48.4081 3(c)(2)(iii) provides that if an importer of record has an unexpired notification certificate (as described in § 48.4081 5) from the enterer and has no reason to believe that any information in the notification certificate is false, the importer of record will not be liable for the tax on the entry of taxable fuel. Section 48.4081-3(c)(2)(iv) provides that a Customs bond posted with respect to the importation of fuel will not be charged for the tax imposed on the entry of fuel if the enterer is a taxable fuel registrant. If a surety has an unexpired notification certificate (as described in § 48.4081-5) from the enterer and has no reason to believe that any information in the notification certificate is false, the surety bond will not be charged for the tax imposed on the entry of taxable fuel.

Form: None.

Affected Public: Businesses or other for-profits.

Estimated Total Annual Burden Hours: 281.

Title: Revenue Procedure 2004-47, Simplified Alternate Procedure for Making Late Reverse QTIP Election.

OMB Control Number: 1545-1898.

Type of Review: Extension without change of a currently approved collection.

Abstract: This revenue procedure provides a simplified alternate procedure (in lieu of requesting a letter ruling) for certain executors of estates and trustees of trusts to request relief to make a late reverse qualified terminable interest property (QTIP) election under section 2652 of the Code.

Form: None.

Affected Public: Individuals or Households.

Estimated Total Annual Burden Hours: 54.

Title: Revenue Procedure 2007-35—Statistical Sampling for Purposes of Section 199.

OMB Control Number: 1545-2072.

Type of Review: Extension without change of a currently approved collection.

Abstract: The revenue procedure provides for determining when statistical sampling may be used for purposes of Internal Revenue Code section 199, which provides a deduction for income attributable to domestic production activities, and establishes acceptable statistical sampling methodologies. The collection of information in the revenue procedure involves a recordkeeping requirement for taxpayers that use statistical sampling under section 199.

Form: None.

Affected Public: Businesses or other for-profits.

Estimated Total Annual Burden Hours: 2,400.

Title: Disclosure by Tax-Exempt Entity Regarding Prohibited Tax Shelter Transaction.

OMB Control Number: 1545-2078.

Type of Review: Extension without change of a currently approved collection.

Abstract: Certain tax-exempt entities are required to file Form 8886-T to disclose information for each prohibited tax shelter transaction to which the entity was a party.

Form: 8886-T.

Affected Public: Not-for-Profit institutions.

Estimated Total Annual Burden Hours: 70,395.

Title: Form 8879-EX, IRS e-file Signature Authorization for Forms 720, 2290, and 8849.

OMB Control Number: 1545-2081.

Type of Review: Extension without change of a currently approved collection.

Abstract: The Form 8879-EX, IRS e-file Signature Authorization for Forms 720, 2290, and 8849 is used in the Modernized e-File program. Form 8879-EX authorizes a taxpayer and an electronic return originator (ERO) to use a personal identification number (PIN) to electronically sign an electronic excise tax return and, if applicable, authorize an electronic funds withdrawal.

Form: 8879-EX.

Affected Public: Businesses or other for-profits.

Estimated Total Annual Burden Hours: 46,800.

Title: TD 9512 (Final)—Nuclear Decommissioning Funds.

OMB Control Number: 1545-2091.

Type of Review: Extension without change of a currently approved collection.

Abstract: Statutory changes under section 468A of the Internal Revenue Code permit taxpayers that have been subject to limitations on contributions to qualified nuclear decommissioning funds in previous years to make a contribution to the fund of the previously-excluded amount. The final regulation provides guidance concerning the calculation of the amount of the contribution and the manner of making the contribution.

Form: None.

Affected Public: Businesses or other for-profits.

Estimated Total Annual Burden Hours: 2,500.

Title: Loss on Subsidiary Stock—REG-157711-02 (TD 9424—Final).

OMB Control Number: 1545-2096.

Type of Review: Extension without change of a currently approved collection.

Abstract: This document contains final regulations under sections 358, 362(e)(2), and 1502 of the Internal Revenue Code (Code). The regulations apply to corporations filing consolidated returns, and corporations that enter into certain tax-free reorganizations. The regulations provide rules for determining the tax consequences of a member's transfer (including by deconsolidation and worthlessness) of loss shares of subsidiary stock. In addition, the regulations provide that section 362(e)(2) generally does not apply to transactions between members of a consolidated group. Finally, the regulations conform or clarify various provisions of the consolidated return regulations, including those relating to adjustments to subsidiary stock basis.

Form: None.

Affected Public: Businesses or other for-profits.

Estimated Total Annual Burden Hours: 25.

Title: (TD 9489) REG-118412-10—Interim Final Rules for Group Health Plans and Health Insurance Coverage Relating to Status as a Grandfathered Health Plan under the Patient Protection and Affordable Care Act.

OMB Control Number: 1545-2178.

Type of Review: Revision of a currently approved collection.

Abstract: This document contains final regulations implementing the rules for group health plans and health insurance coverage in the group and individual markets under provisions of the Patient Protection and Affordable Care Act regarding status as a grandfathered health plan.

Form: None.

Affected Public: Businesses or other for-profits.

Estimated Total Annual Burden Hours: 2,220.

Title: Patient Protection and Affordable Care Act Patient Protection Notice—Final Rule—(TD 9744).

OMB Control Number: 1545-2181.

Type of Review: Revision of a currently approved collection.

Abstract: The Patient Protection Notice is used by health plan sponsors and issuers to notify certain individuals of their right to (1) choose a primary care provider or a pediatrician when a plan or issuer requires participants or subscribers to designate a primary care physician; or (2) obtain obstetrical or gynecological care without prior authorization.

Form: None.

Affected Public: Businesses or other for-profits.

Estimated Total Annual Burden Hours: 5,173.

Title: Form 8946, PTIN Supplemental Application for Foreign Persons Without a Social Security Number.

OMB Control Number: 1545-2189.

Type of Review: Revision of a currently approved collection.

Abstract: Paid preparers that are nonresident aliens and cannot get a social security number will need to establish their identity prior to getting a Preparer Tax Identification Number (PTIN). Form 8946 is being created to assist that population with establishing their identity while applying for a PTIN.

Form: 8946.

Affected Public: Individuals or Households.

Estimated Total Annual Burden Hours: 20,584.

Title: Tax Credit for Employee Health Insurance Expenses of Small Employers.

OMB Control Number: 1545-2198.

Type of Review: Extension without change of a currently approved collection.

Abstract: Section 45R of the Internal Revenue Code (Code) offers a tax credit to certain small employers that provide insured health coverage to their employees. Section 45R was added to the Code by section 1421 of the Patient Protection and Affordable Care Act, enacted March 23, 2010, Public Law 111-148 (as amended by section 10105(e) of the Patient Protection and Affordable Care Act, which was amended by the Health Care and Education Reconciliation Act of 2010, Pub. L. 111-152 (124 Stat. 1029)) (collectively, the “Affordable Care Act”). Eligible small employers use Form 8941 to figure the credit for small employer health insurance premiums for tax years.

Form: 8941.

Affected Public: Businesses or other for-profits.

Estimated Total Annual Burden Hours: 34,278,346.

Title: Reinstatement and Retroactive Reinstatement for Reasonable Cause (Rev. Proc. 2014-11) and Transitional Relief for Small Organizations (Notice 2011-43) under IRC § 6033(j).

OMB Control Number: 1545-2206.

Type of Review: Extension without change of a currently approved collection.

Abstract: This revenue procedure provides procedures for reinstating the tax-exempt status of organizations that have had their tax-exempt status automatically revoked under section 6033(j) of the Internal Revenue Code for failure to file required annual returns or notices for three consecutive years. The revenue procedure prescribes certain circumstances under which an organization can have its tax-exempt status retroactively reinstated to the date of revocation. Notice 2011-44 is modified. Notice 2011-44 provides guidance with respect to applying for reinstatement of tax-exempt status and requesting retroactive reinstatement under sections 6033(j)(2) and (3) of the Internal Revenue Code for an organization that has had its tax-exempt status automatically revoked under section 6033(j)(1) of the Code. The Treasury Department and the Internal Revenue Service intend to issue regulations under section 6033(j) that will prescribe rules relating to the application for reinstatement of tax-exempt status under section 6033(j)(2) and the request for retroactive reinstatement under section 6033(j)(3). Notice 2011-43 provides transitional relief for certain small organizations that have lost their tax-exempt status because they failed to file a required annual electronic notice (Form 990-N e-Postcard) for taxable years beginning in 2007, 2008 and 2009. A small organization—that is, one that normally has annual gross receipts of not more than $50,000 in its most recently completed taxable year that qualifies for the transitional relief under this notice and applies for reinstatement of tax-exempt status by December 31, 2012, will be treated by the Internal Revenue Service as having established reasonable cause for its filing failures and its tax-exempt status will be reinstated retroactive to the date it was automatically revoked.

Form: None.

Affected Public: Not-for-profit institutions.

Estimated Total Annual Burden Hours: 6,206.

Title: Volunteer Income Tax Assistance (VITA) and Tax Counseling for the Elderly (TCE) Programs.

OMB Control Number: 1545-2222.

Type of Review: Revision of a currently approved collection.

Abstract: The Internal Revenue Service offers free assistance with tax return preparation and tax counseling using specially trained volunteers. The Volunteer Income Tax Assistance (VITA) and Tax Counseling for the Elderly (TCE) programs assist seniors and individuals with low to moderate incomes, those with disabilities, and those for whom English is a second language. Using these forms will provide consistent information that is needed when potential VITA/TCE volunteers submit their interest in volunteering to represent the IRS when they prepare tax returns during filing season.

Forms: 14310, 9653, 8654, 14204, 13715, and 13206.

Affected Public: Individuals or Households, Not-for-profit institutions.

Estimated Total Annual Burden Hours: 16,067.

Authority: 44 U.S.C. 3501 et seq.

Dated: July 11, 2017.
Jennifer P. Leonard,
Treasury PRA Clearance Officer.

[FR Doc. 2017-14823 Filed 7-13-17; 8:45 am]

BILLING CODE 4830-01-P